INTERNATIONAL TRADE COMMISSION

[Investigation No. 701-TA-427 (Preliminary)]

Film and Television Productions From Canada

AGENCY: United States International Trade Commission.

ACTION: Notice of withdrawal of petition in countervailing duty investigation.

SUMMARY: On January 11, 2002, the Department of Commerce and the Commission received a letter from petitioners in the subject investigation (Film and Television Action Committee, Studio City, CA; the Screen Actors Guild, Los Angeles, CA; Studio Utility Employees Local 724 of the Laborers International Union, Hollywood, CA; Local 355 of the International Brotherhood of Teamsters (Teamsters), Baltimore, MD; Teamsters Local 391, Greensboro, NC; Teamsters Local 399, North Hollywood, CA; Teamsters Local 509, Cayce SC; Teamsters Local 592, Richmond, VA; and the Maryland Production Alliance, Baltimore, MD) withdrawing the petition. Commerce has not initiated an investigation as provided for in section 702(c) of the Tariff Act of 1930 (19 U.S.C. 1671a(c)). Accordingly, the Commission gives notice that its countervailing duty investigation concerning film and television productions from Canada (investigation No. 701-TA-427 (Preliminary)) is discontinued.

EFFECTIVE DATE: January 11, 2002.

FOR FURTHER INFORMATION CONTACT: Diane J. Mazur (202-205-3184), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS-ON-LINE) at http://dockets.usitc.gov/eol/public.

Issued: January 11, 2002.
By order of the Commission.
Marilyn R. Abbott,
Acting Secretary.

[FR Doc. 02-1224 Filed 1-16-02; 8:45 am]

BILLING CODE 7020-02-P